DEPARTMENT OF COMMERCE

International Trade Administration

[A-570-836]

Glycine From the Peoples Republic of China: Amended Final Results of New Shipper Administrative Review

AGENCY: Import Administration, International Trade Administration, Department of Commerce.

ACTION: Notice of amended final results in the antidumping duty new shipper administrative review of glycine from the People's Republic of China.

EFFECTIVE DATE: March 5, 2001.

FOR FURTHER INFORMATION CONTACT: Robert Bolling or Rick Johnson, AD/CVD Enforcement Group III, Office 9, Import Administration, International Trade Administration, U.S. Department of Commerce, 14th Street and Constitution Avenue, NW., Washington, DC 20230; telephone: (202) 482-3434 or (202) 482-3818, respectively.

Scope of the Review

The product covered by this review is glycine, which is a free-flowing crystalline material, like salt or sugar. Glycine is produced at varying levels of purity and is used as a sweetener/taste enhancer, a buffering agent, reabsorbable amino acid, chemical intermediate, and a metal complexing agent. Glycine is currently classified under subheading 2922.49.4020 of the Harmonized Tariff Schedule of the United States (“HTSUS”). This proceeding includes glycine of all purity levels. Although the HTSUS subheading is provided for convenience and Customs purposes, the written description of the scope of this review is dispositive.

Amendment of Final Results

On January 31, 2001, the Department of Commerce (the Department) published the final results of its new shipper administrative review on glycine from the People's Republic of China (66 FR 8383). This review covered Nantong Dongchang Chemical Industry Corp., a new shipper of the subject merchandise to the United States. The period of review (POR) is March 1, 1999 through August 31, 1999.

On February 2, 2001, we received a submission from Hampshire Chemical Corporation and Chattem Chemicals (collectively, “Petitioners”) alleging a clerical error in the final results of this new shipper administrative review of the antidumping duty order on glycine from the People's Republic of China. Respondent submitted rebuttal comments on February 8, 2001. The allegation and rebuttal comments were filed in a timely fashion.

Comment 1: Petitioners allege that the Department committed a ministerial error in the final results of the new shipper review. Petitioners state that the Department used an incorrect factory overhead surrogate value that was derived from the financial statement of Daurala Organics Ltd. Petitioners claim that the Department used a 21.07 percent factory overhead surrogate value; however, the correct percentage is 21.70 percent.

Respondent argues that no clerical error has occurred and therefore, no recalculation of the final margin is necessary. Respondent asserts that under section 351.224(c) of the Department's regulations, comments concerning ministerial errors made in the preliminary results are to be included in an interested parties case brief. Respondent contends that petitioners' alleged error occurred during the preliminary stage of this review, and thus petitioners' comments are untimely according to Department regulations and no correction needs to be made to the factory overhead ratio.

Department's Position: After a review of petitioners' allegation, we agree with petitioners and have corrected our calculation worksheet to correct the factory overhead surrogate value. For the factory overhead ratio we used to correct this ministerial error, please see the Memorandum from Robert A. Bolling to Edward Yang dated February 21, 2001, a public version of which is available in the Central Records Unit, Room B-099 of the Department of Commerce Building, 14th Street and Constitution Ave, NW., Washington, DC.

Amended Final Results of New Shipper Review

As a result of our review and the correction of the ministerial error described above, we have determined that the following margin exists:

Glycine
Producer/manufacturer/exporter | Weighted-average margin (percent)
Nantong Dongchang Chemical Industry Corp | 18.60

The Department shall determine, and the U.S. Customs Service (“Customs”) shall assess, antidumping duties on all appropriate entries. In accordance with 19 CFR 351.212(b), we have calculated exporter/importer-specific assessment rates. We divided the total dumping margins for the reviewed sales by the total entered value of those reviewed sales for each importer. We will direct Customs to assess the resulting percentage margin against the entered Customs values for the subject merchandise on each of that importer's entries under the relevant order during the review period.

Furthermore, the following deposit requirements will be effective, upon publication of this notice of amended final results of the new shipper review for all shipments of glycine from the People's Republic of China entered, or withdrawn from warehouse, for consumption on or after the publication date, as provided for by section 751(a)(1) of the Act: (1) The cash deposit rate for the reviewed company will be the rate shown above; (2) the cash deposit rate for PRC exporters who received a separate rate in a prior segment of the proceeding but for whom a review was not requested for this POR will continue to be the rate assigned in that segment of the proceeding; (3) the cash deposit rate for the PRC NME entity (i.e., all other exporters, which have not been reviewed) will continue to be 155.89 percent; and (4) the cash deposit rate for non-PRC exporters of subject merchandise from the PRC will be the rate applicable to the PRC supplier of that exporter.

These deposit requirements shall remain in effect until publication of the final results of the next administrative review.

This notice also serves as a final reminder to importers of their responsibility under 19 CFR 351.402(f)(2) to file a certificate regarding the reimbursement of antidumping duties prior to liquidation of the relevant entries during this review period. Failure to comply with this requirement could result in the Secretary's presumption that reimbursement of antidumping duties occurred and in the subsequent assessment of doubled antidumping duties.

This notice also serves as the only reminder to parties subject to administrative protective orders (“APO”) of their responsibility concerning the return or destruction of proprietary information disclosed under APO in accordance with 19 CFR 351.305 or conversion to judicial protective order is hereby requested. Failure to comply with the regulations and terms of an APO is a violation which is subject to sanctions.

We are issuing and publishing this determination and notice in accordance with sections 751(a)(1) and 777(i) of the Act. Effective January 20, 2001, Bernard T. Carreau is fulfilling the duties of the Assistant Secretary for Import Administration.

Dated: February 26, 2001.
Bernard T. Carreau,
Deputy Assistant Secretary, Import Administration.

[FR Doc. 01-5279 Filed 3-2-01; 8:45 am]

BILLING CODE 3510-DS-P